DEPARTMENT OF ENERGY

Federal Energy Regulatory Commission

[Beverly Lock and Dam Water Power, Project No. 13404-002—Devola Lock and Dam Water Power Project, Project No. 13405-002—Malta/McConnelsville Lock and Dam Water Power Project, Project No. 13406-002—Lowell Lock and Dam Water Power Project, Project No. 13407-002— Philo Lock and Dam Water Power Project, Project No. 13408-002—Rokeby Lock and Dam Water Power Project, Project No. 13411-002]

Notice of Proposed Restricted Service List for a Programmatic Agreement for Managing Properties Included in or Eligible for Inclusion in the National Register of Historic Places

Rule 2010 of the Federal Energy Regulatory Commission's (Commission) Rules of Practice and Procedure ¹ provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

¹ 18 CFR 385.2010.

The Commission staff is consulting with the Ohio Historical Society (Ohio SHPO) and the Advisory Council on Historic Preservation (Advisory Council) pursuant to the Advisory Council's regulations, 36 CFR part 800, implementing section 106 of the National Historic Preservation Act, as amended, (54 U.S.C. 306108), to prepare Programmatic Agreements for managing properties included in, or eligible for inclusion in, the National Register of Historic Places that could be affected by issuance of an original license for each of the following projects: (1) Beverly Lock & Dam Water Power Project No. 13404; (2) Devola Lock & Dam Water Power Project No. 13405; (3) Malta Lock & Dam Water Power Project No. 13406; (4) Lowell Lock & Dam Water Power Project No. 13407; (5) Philo Lock & Dam Water Power Project No. 13408; (6) and Rokeby Lock & Dam Water Power Project No. 13411.

The Programmatic Agreements, when executed by the Commission and the Ohio SHPO, would satisfy the Commission's section 106 responsibilities for all individual undertakings carried out in accordance with the licenses until the licenses expire or are terminated (36 CFR 800.13[e]). The Commission's responsibilities pursuant to section 106 for the projects would be fulfilled through the Programmatic Agreements, which the Commission staff proposes to draft in consultation with certain parties listed below. The executed Programmatic Agreements would be incorporated into any Order issuing a license for each project.

Clean River Power MR-3, LLC, Clean River Power MR-1, LLC, Clean River Power MR-5, LLC, Clean River Power MR-2, LLC, Clean River Power MR-7, LLC, and Clean River Power MR-6, LLC as applicants for the Beverly Lock and Dam Water Power Project, Devola Lock and Dam Water Power Project, Malta/McConnelsville Lock and Dam Water Power Project, Lowell Lock and Dam Water Power Project, Philo Lock and Dam Water Power Project, and Rokeby Lock and Dam Water Power Project, respectively, the Peoria Tribe Indians of Oklahoma, the Miami Tribe of Oklahoma, and the Hannahville Indian Community have expressed an interest in these proceedings and are invited to participate in consultations to develop the Programmatic Agreements. For purposes of commenting on the Programmatic Agreements, we propose to restrict the service list for Projects Nos. 13404, 13405, 12406, 13407, 13408, and 13411 as follows:

John Eddins or Representative, Advisory Council on Historic Preservation, 401 F Street NW., Suite 803, Washington, DC 2001-2637.

David Snyder or Representative, Ohio State Historic Preservation Office, Ohio History Connection, 800 E 17th Ave., Columbus, OH 43211.

Ramya Swaminathan or Representative, Clean River Power MR-3, LLC et al., 745 Atlantic Avenue, 8th Floor, Boston, MA 02111.

Dave Anthony or Representative, Business & Government Affairs, Manager, Hannahville Indian Community, N14911 Hannahville B1 Road, Wilson, MI 49896.

Logan Pappenfort, Section 106 Representative, Peoria Tribe of Indians of Oklahoma, 118 S. Eight Tribes Trail, P.O. Box 1527, Miami, OK 74355.

George J. Strack, THPO, Miami Tribe of Oklahoma, P.O. Box 1326, Miami, OK 74355.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

The Commission strongly encourages electronic filing. Please file motions using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-1256-031.

If no such motions are filed, the restricted service list will be effective at the end of the 15 day period. Otherwise, a further notice will be issued ruling on any motion or motions within the 15-day period.

Dated: September 10, 2015.
Kimberly D. Bose,
Secretary.

[FR Doc. 2015-23321 Filed X-X-XX; 8:45 am]

BILLING CODE 6717-01-P